DEPARTMENT OF ENERGY

Federal Energy Regulatory Commission

Combined Notice of Filings #2

Take notice that the Commission received the following electric rate filings:

Docket Numbers: ER16-1832-002.

Applicants: Entergy Louisiana, LLC.

Description: Tariff Amendment: ELL Nine Mile 6 Supplemental Reactive to be effective 8/1/2016.

Filed Date: 9/19/16.

Accession Number: 20160919-5123.

Comments Due: 5 p.m. ET 10/11/16.

Docket Numbers: ER16-2222-001.

Applicants: Alcoa Power Generating Inc.

Description: Tariff Amendment: Long Sault Division Response to Deficiency Letter to be effective 10/1/2016.

Filed Date: 9/16/16.

Accession Number: 20160916-5168.

Comments Due: 5 p.m. ET 9/28/16.

Docket Numbers: ER16-2223-001.

Applicants: Alcoa Power Generating Inc.

Description: Tariff Amendment: Tapoco Division Response to Deficiency Letter to be effective 10/1/2016.

Filed Date: 9/16/16.

Accession Number: 20160916-5171.

Comments Due: 5 p.m. ET 9/28/16.

Docket Numbers: ER16-2580-001.

Applicants: Midcontinent Independent System Operator, Inc.

Description: Tariff Amendment: 2016-09-19_Amendment to Bi-Directional EARS to be effective11/12/2016.

Filed Date: 9/19/16.

Accession Number: 20160919-5112.

Comments Due: 5 p.m. ET 10/11/16.

Docket Numbers: ER16-2605-000.

Applicants: PJM Interconnection, L.L.C.

Description: § 205(d) Rate Filing: First Revised ISA No. 3559, Queue No. X1-109/AA1-082 to be effective 8/18/2016.

Filed Date: 9/19/16.

Accession Number: 20160919-5043.

Comments Due: 5 p.m. ET 10/11/16.

Docket Numbers: ER16-2606-000.

Applicants: Midcontinent Independent System Operator, Inc., Michigan Electric Transmission Company, LLC, Northern Indiana Public Service Company.

Description: § 205(d) Rate Filing: 2016-09-19_SA 2947 NIPSCO-METC T-TIA to be effective 11/19/2016.

Filed Date: 9/19/16.

Accession Number: 20160919-5044.

Comments Due: 5 p.m. ET 10/11/16.

Docket Numbers: ER16-2607-000.

Applicants: Watson Cogeneration Company.

Description: Compliance filing: Amended Triennial Review Filing to be effective N/A.

Filed Date: 9/19/16.

Accession Number: 20160919-5055.

Comments Due: 5 p.m. ET 10/11/16.

Docket Numbers: ER16-2608-000.

Applicants: Southern California Edison Company.

Description: Tariff Cancellation: Notices of Cancellation to DSA with Mirasol Development to be effective6/8/2016.

Filed Date: 9/19/16.

Accession Number: 20160919-5081.

Comments Due: 5 p.m. ET 10/11/16.

Docket Numbers: ER16-2609-000.

Applicants: Idaho Power Company.

Description: § 205(d) Rate Filing: Tariff Database Reorganization Filing to be effective 11/21/2016.

Filed Date: 9/19/16.

Accession Number: 20160919-5098.

Comments Due: 5 p.m. ET 10/11/16.

Docket Numbers: ER16-2610-000.

Applicants: Wabash Valley Power Association, Inc.

Description: Initial rate filing: WVPA Reactive Tariff Volume No. 4 to be effective 10/1/2016.

Filed Date: 9/19/16.

Accession Number: 20160919-5104.

Comments Due: 5 p.m. ET 10/11/16.

Docket Numbers: ER16-2611-000.

Applicants: Wabash Valley Power Association, Inc.

Description: Initial rate filing: WVPA Reactive Tariff Volume No. 3 to be effective 10/1/2016.

Filed Date: 9/19/16.

Accession Number: 20160919-5117.

Comments Due: 5 p.m. ET 10/11/16.

Docket Numbers: ER16-2612-000.

Applicants: Summer Solar LLC.

Description: § 205(d) Rate Filing: Shared Facilities Agreement to be effective 9/20/2016.

Filed Date: 9/19/16.

Accession Number: 20160919-5127.

Comments Due: 5 p.m. ET 10/11/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2016.
Nathaniel J. Davis, Sr.,
Deputy Secretary.

[FR Doc. 2016-23021 Filed 9-23-16; 8:45 am]

BILLING CODE 6717-01-P